DEPARTMENT OF ENERGY

Federal Energy Regulatory Commission

[Docket No. RP00-240-000]

Kern River Gas Transmission Company; Notice of Report of Fuel and Lost and Unaccounted-For Gas Factors for 1999

April 4, 2000.

Take notice that on March 31, 2000, Kern River Gas Transmission Company (Kern River) tendered a report supporting its fuel and lost and unaccounted-for gas factors for August through December 1999.

Kern River states that it has served a copy of this filing upon its customers and interested state regulatory commissions.

Any person desiring to be heard or to protest said filing should file a motion to intervene or a protest with Federal Energy Regulatory Commission, 888 First Street, NE, Washington, DC 20426, in accordance with Section 385.214 or 385.211 of the Commission's Rules and Regulations. All such motions or protests must be filed on or before April 11, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8766 Filed 4-7-00; 8:45 am]

BILLING CODE 6717-01-M